DEPARTMENT OF THE INTERIOR

National Park Service

[NPS-NCR-MANA-0411-7316; 3840-SZM]

Notice of Availability of a Record of Decision on the Final Environmental Impact Statement for the General Management Plan, Manassas National Battlefield Park

AGENCY: National Park Service, Interior.

SUMMARY: Pursuant to § 102(2)(C) of the National Environmental Policy Act of 1969, 83 Stat. 852, 853, codified as amended at 42 U.S.C. 4332(2)(C), the National Park Service (NPS) announces the availability of the Record of Decision for the Final Environmental Impact Statement for the General Management Plan (FEIS/GMP), Manassas National Battlefield Park, Virginia.

FOR FURTHER INFORMATION CONTACT: Ed W. Clark, Superintendent, Manassas National Battlefield Park, at Manassas National Battlefield Park, 12521 Lee Highway, Manassas, Virginia 20109-2005, by telephone at (703) 754-1861, or by e-mail at EdWClark @NPS.gov.

SUPPLEMENTARY INFORMATION: On January 25, 2011, the Regional Director of the National Capital Region, NPS, approved the Record of Decision for the project. As soon as practicable, the NPS will begin to implement the Preferred Alternative contained in the FEIS/GMP issued on September 19, 2008. The following course of action will occur under the Alternative B, the selected alternative.

Alternative B is the NPS-selected alternative. Under this alternative, the park would focus on interpreting the two battles of Manassas as distinct military events. This alternative has been modified from the Alternative B presented in the FEIS/GMP as discussed below. The initial stop in the park will be a new visitor center; where visitors will receive their first orientation to the battlefield. The interpretive information will focus on putting the two battles into context. Visitors will receive a more thorough orientation to each battle from two visitor contact areas—Henry Hill for First Manassas and Brawner Farm for Second Manassas. From these access points, visitors may explore the many historic sites associated with each event throughout the park. The experience for each battle will be distinct, with stand-alone visitor areas and automobile tour routes. Separate, chronological automobile and bicycle tours will be developed for each battle. In this alternative, the rehabilitation of the historic landscape will be critical to visitor understanding of the events and military tactics associated with each battle. Development of a visitor center near Stone Bridge was discussed as part of Alternative C in the FEIS/GMP. By including it in the selected alternative, the NPS believes the park can provide a more comprehensive approach to interpretation of both battles that will enhance the visitor experience. It should be noted that while Alternative C places the visitor center near Stone Bridge, future planning and compliance may determine a more appropriate location for such a facility. The new visitor center will provide context for the battles of First and Second Manassas battles; the visitor contact station at Henry Hill will continue its sole focus on the battle of First Manassas, while the visitor contact station at Brawner Farm will focus solely on the battle of Second Manassas. Given its location within the cultural landscape and space limitations, expanding the interpretive focus at Henry Hill is not feasible. By constructing a new visitor center the park can more effectively achieve the management goals of the park. Site-specific analysis, compliance with the National Environmental Policy Act (NEPA) and Section 106 of the National Historic Preservation Act (NHPA) will be conducted as appropriate before development of the new visitor center. As part of this planning effort, due to the sensitive nature of the cultural landscape and resources in the park, the NPS will explore a range of alternatives regarding the potential site of the new facility (both inside and outside of the park boundaries), and would seek sites that minimize impacts to park resources especially those resources related to the two battles. In addition, the NPS will consider the operational needs of the park and how a new visitor center could meet those needs more efficiently (i.e., office space, interpretation, cooperative agreements, curatorial requirements, and utilization of the current visitor facilities within the park); potentially allowing for a reduction in the size of the current visitor facilities within the park in the future.

Full implementation of this alternative assumes the completion of the Manassas National Battlefield Park Bypass (Bypass). The Bypass will permit the removal of heavy commuter and commercial truck traffic from the portions of U.S. Route 29 and VA Route 234 that run through the park. Through traffic will be further limited with the addition of controlled access points. Visitors will experience a battlefield landscape that resembles its wartime appearance. Key interpretive views will be preserved and re-created to help visitors understand how the battles unfolded and the importance of certain locations. Wartime structures will be preserved and other historic structures will be retained to mark the site of wartime buildings.

Key Actions

Under the selected alternative, the following actions will occur: Separate automobile and bike paths will be developed for each battle. The NPS will upgrade current trails and interpretive media along the First Manassas and Second Manassas hiking trails as necessary. New portions of the Second Manassas hiking trail will be created as necessary. Because of safety concerns posed by the high traffic volumes on U.S. Route 29 and VA Route 234, separate automobile and bicycle tour routes will not be implemented until the completion of the Bypass. Once the Bypass is completed, through traffic will be limited in the park with the addition of controlled access facilities at the park's four main entry points.

A new visitor center will be constructed, designed as the initial stop and primary orientation point for the park. The visitor contact station at Henry Hill will focus entirely on First Manassas.

The battle of Second Manassas visitor contact station will be located at Brawner Farm. The site will be open for year-round visitation once necessary improvements have been completed.

The cultural landscape will reflect conditions in 1861-1862 in several key areas of the park through a combination of tree removal, clearing, and reforestation. The cleared areas will be managed as grassland communities (or in a few instances as shrub communities) that will provide desirable habitat and restore historic vistas for visitors. Maintaining the historic appearance of some of these areas with a lawnmower or other machinery may be prohibited because of terrain. In those cases, following appropriate compliance, other approved methods will be utilized to maintain the landscape. Prescribed fire may be considered as a potential management tool; however, this will require extensive compliance to ensure that it be used safely and have the expected results. The park staff will continue to work cooperatively with neighboring jurisdictions related to rehabilitation of the historic scene. In addition, plans detailing how the various landscapes will be managed will be developed prior to the implementation of any rehabilitation activities. The following rehabilitation activities have been identified; the highest priority tasks are listed first:

• Approximately 45 acres of woods along the west side of Chinn Ridge will be cleared and replaced with open fields and grasslands to reestablish the view between the ridge and the site of the New York Monuments.

• Approximately 35 acres of trees will be removed from Matthews Hill and the open fields will be rehabilitated.

• Trees will be thinned at the top of the slope along the east side of the Chinn Ridge to reestablish the view between Chinn Ridge and Henry Hill while minimizing the amount of vegetation removed. The riparian buffer along Chinn Branch will be retained.

• Approximately 15 acres of land on Stuart's Hill that is currently open space will be reforested.

• Approximately 20 acres of land that is currently open space south of Stuart's Hill will be reforested.

• Approximately 20 acres along the north-central portion of Dogan Ridge will be reforested, and a small area of 3 acres along the curve of the Sudley-Manassas Road will be cleared and managed as open fields.

• To the north of the Matthews Hill area, an area of approximately 25 acres will be reforested.

• An additional 5 acres of land along Bull Run to the west of Poplar Ford will be reforested.

• The current Stuart's Hill clearing will be expanded by approximately 30 acres to the east. The clearing will restore the view from General Lee's headquarters toward Centreville during the Second Battle of Manassas.

• The historic landscape around the Cundiff House will be rehabilitated to wartime conditions. Approximately 40 acres of trees will be removed and converted to grassland and/or scrubland.

The NPS will continue to preserve historic structures and features, including those that date from the battles, such as Stone House, L. Dogan House, Thornberry House, and the Unfinished Railroad. Buildings and structures that do not date from the battles, but are historic or mark the site of wartime structures, will be stabilized and rehabilitated to function as important interpretive sites or will be maintained for park uses. These structures include the Brawner Farm House, Henry House, J. Dogan House, Pringle House, and Stone Bridge.

In addition to continuing to protect these structures, the NPS will initiate several actions:

• Complete work necessary to support year round visitation of the Brawner Farm House as part of the Second Battle of Manassas tour route.

• Explore a range of options to support interpretation of the Robinson House ruins from the Civil War period.

• Preserve and stabilize the J. Dogan House. This preservation effort will include removing nonconforming structural elements such as siding, and removing the nonconforming modern garage.

• As part of the Bypass, the existing U.S. Route 29 Bridge over Bull Run will be removed to eliminate modern intrusions from the battlefield landscape and to return the site to a more historic appearance. In addition, a new bridge will be constructed to allow continued access along U.S. Route 29. The new location will be chosen so there will be fewer impacts to the cultural landscape.

In the selected alternative, a boundary adjustment to the park will be necessary to include the four tracts of land; the Davis Tract, the Stonewall Memory Garden Tract, the Conservation Trust Parcel, and the Dunklin Monument. These tracts are described in detail in the FEIS and in the Record of Decision. This adjustment will require Congressional action to amend the existing boundary.

Implementation of each of these specific actions will require additional site-specific planning and compliance with NHPA and NEPA.

The Preferred Alternative and two other alternatives were analyzed in the Draft Environmental Impact Statement on the General Management Plan (DEIS/GMP) and FEIS/GMP. The full range of foreseeable environmental consequences was assessed, and appropriate mitigating measures were identified.

The Record of Decision includes a statement of the decision made, synopses of other alternatives considered, the basis for the decision, a description of the environmentally preferable alternative, a finding on impairment of park resources and values, a listing of measures to minimize environmental harm, an overview of public involvement in the decision-making process, and comments received on the DEIS/GMP.

Copies of the Record of Decision may be obtained from the contact listed above or online at http://parkplanning.nps.gov/MANA.

Dated: April 19, 2011.
Woody Smeck,
Acting Regional Director, National Capital Region.

[FR Doc. 2011-18149 Filed 7-18-11; 8:45 am]

BILLING CODE 4312-49-P